DEPARTMENT OF THE TREASURY

Office of Foreign Assets Control

Additional Designation of Entities and Individuals Pursuant to Executive Order 12978

AGENCY: Office of Foreign Assets Control, Treasury.

ACTION: Notice.

SUMMARY: The Treasury Department's Office of Foreign Assets Control (“OFAC”) is publishing the names of 15 newly-designated entities and 9 newly-designated individuals whose property and interests in property are blocked pursuant to Executive Order 12978 of October 21, 1995, “Blocking Assets and Prohibiting Transactions with Significant Narcotics Traffickers.” In addition, OFAC is publishing changes to the identifying information associated with one entity and nine individuals previously designated pursuant to Executive Order 12978.

DATES: The designation by the Director of OFAC of the 15 entities and 9 individuals identified in this notice pursuant to Executive Order 12978 is effective on June 12, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and the Secretary of State, to play a significant role in international narcotics trafficking centered in Colombia, or materially to assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On June 12, 2009, the Director of OFAC, in consultation with the Attorney General and the Secretary of State, as well as the Secretary of Homeland Security, designated 15 entities and 9 individuals whose property and interests in property are blocked pursuant to the Order.

The list of additional designees is as follows:

Entities:

1. CIMIENTOS LA TORRE S.A. DE C.V. (f.k.a. ACTIVOS PARA EL DESARROLLO ISLA BLANCA S.A. DE C.V.); Calle San Uriel 690, Interior 10, Piso 4, Colonia Chapalita, Guadalajara, Jalisco, Mexico; (ENTITY) [SDNT]

2. COMERCIALIZADORA DE CAPITALES LIMITADA, Carrera 48C No. 15 Sur-68, Medellin, Colombia; Carrera 43C No. 70-73, Piso 2, Medellin, Colombia; NIT #811032525-4 (Colombia); (ENTITY) [SDNT]

3. CORPORACION DE CONSULTORIA, ASESORIA, PRESTACION DE SERVICIOS Y DOTACION DE ELEMENTOS Y SUMINISTROS CIA. LIMITADA (f.k.a. CORPORACION DE CONSULTORIA ASESORIA Y DOTACION DE ELEMENTOS Y SUMINISTROS CIA. LIMITADA; a.k.a. CORDES CIA. LIMITADA); Calle 71C No. 4N-19, Cali, Colombia; NIT #830502730-4 (Colombia); (ENTITY) [SDNT]

4. CUMBRES SOLUCIONES INMOBILIARIAS S.A. DE C.V., Avenida Miguel Angel 18, Colonia Real Vallarta, Zapopan, Jalisco, Mexico; Calle del Menhir Sur 661-2, Colonia Altamira, Zapopan, Jalisco, Mexico; (ENTITY) [SDNT]

5. GRANOPRODUCTOS AGRICOLAS S.A. DE C.V., Zona Conurbada, Guadalajara, Jalisco, Mexico; (ENTITY) [SDNT]

6. GRUPO C.L.P. CONSTRUCTORA S.A. DE C.V., Calle San Uriel 690, Interior 10, Piso 4, Colonia Chapalita, Guadalajara, Jalisco, Mexico; (ENTITY) [SDNT]

7. GRUPO CONSTRUCTOR INMOBILIARIO PACAR S.A. DE C.V., Guadalajara, Jalisco, Mexico; (ENTITY) [SDNT]

8. HODWALKER Y LEAL Y CIA. S.C.A., Via 40 No. 67-20/42, Barranquilla, Colombia; NIT #900074434-5 (Colombia); (ENTITY) [SDNT]

9. KELVEDON LIMITED, 1446 West Bay Road, Georgetown, Grand Cayman, Cayman Islands; (ENTITY) [SDNT]

10. MIRASOL INTERNATIONAL LIMITED, Road Town, Tortola, Virgin Islands, British; (ENTITY) [SDNT]

11. MISION INMOBILIARIA LIMITADA, Calle 100 No. 60-04, Oficina 506, Bogota, Colombia; NIT #900146213-4 (Colombia); (ENTITY) [SDNT]

12. PARQUE ECOLOGICO RECREACIONAL DE LAS AGUAS DE GIRARDOT LIMITADA, Carrera 19 No. 28-200 Barrio Gaitan, Girardot, Colombia; NIT #900034947-0 (Colombia); (ENTITY) [SDNT]

13. SHARDAE VENTURES INC., Road Town, Tortola, Virgin Islands, British; Carrera 63 No. 17-07, Bogota, Colombia; (ENTITY) [SDNT]

14. TECNICAR DIAGNOSTICENTRO S.A. (f.k.a. TECNICAR DIAGNOSTICENTRO E.U.); Carrera 48 No. 25AA Sur-13 Barrio Las Vegas, Envigado, Colombia; NIT #811046795-7 (Colombia); (ENTITY) [SDNT]

15. YAMAHA MUNDIAL LIMITADA, Carrera 4 No. 5A-03, Santa Marta, Colombia; NIT #900016791-2 (Colombia); (ENTITY) [SDNT]

Individuals:

1. ACOSTA URUETA, Yaneth (a.k.a. ACOSTA URUETA, Janeth; a.k.a. ACOSTA URUETA, Yaneth del Socorro); c/o HODWALKER Y LEAL Y CIA. S.C.A., Barranquilla, Colombia; c/o MARTIN HODWALKER M. & CIA. S. EN C., Barranquilla, Colombia; DOB 10 Nov 1965; POB Colombia; Citizen Colombia; Nationality Colombia; Cedula No. 57411214 (Colombia); (INDIVIDUAL) [SDNT]

2. ARAMBULA GARCIA, Luz del Rocio (a.k.a. ARAMBULA DE FLORES, Luz del Rocio); C. Las Palmas No. 2700 Int. 14, Colonia Atlas Colomos, Zapopan, Jalisco, Mexico; Avenida Hidalgo 1890, Colonia Ladron de Guevara, Guadalajara, Jalisco, Mexico; DOB 06 Jan 1949; Alt. DOB 05 Jan 1949; POB Jalisco, Mexico; Citizen Mexico; Nationality Mexico; C.U.R.P. AAGL490106MJCRRZ00 (Mexico); C.U.R.P. AAGL490106HJCRRZ00 (Mexico); Passport 98140030684 (Mexico); R.F.C. AAGL-490105 (Mexico); R.F.C. AAGL-490105-9F9 (Mexico); (INDIVIDUAL) [SDNT]

3. BEDOYA VELEZ, Jose Roberto, c/o TECNICAR DIAGNOSTICENTRO S.A., Envigado, Colombia; Carrera 28 No. 16-85, Casa 12, Medellin, Antioquia, Colombia; DOB 10 Oct 1960; POB Medellin, Antioquia, Colombia; Citizen Colombia; Nationality Colombia; Passport AI406455 (Colombia); Cedula No. 15256905 (Colombia); (INDIVIDUAL) [SDNT]

4. CARDENAS REAL, Juan, c/o GRUPO C.L.P. CONSTRUCTORA S.A. DE C.V., Guadalajara, Jalisco, Mexico; c/o GRUPO CONSTRUCTOR INMOBILIARIO PACAR S.A. DE C.V., Guadalajara, Jalisco, Mexico; Calle Lopez Cotilla 2032, Piso 10, Colonia Americana, Guadalajara, Jalisco, Mexico; Avenida Nicolas Copernico, No. 3924, Fraccionamiento Arboledas, Sector Juarez, Guadalajara, Jalisco, Mexico; Clz. Revolucion 2259, Guadalajara, Jalisco, Mexico; DOB 20 Jan 1944; POB Guadalajara, Jalisco, Mexico; Citizen Mexico; Nationality Mexico; C.U.R.P. CARJ440120HJCRLN08 (Mexico); C.U.R.P. CARJ440120MJCRLN08 (Mexico); (INDIVIDUAL) [SDNT]

5. ESPITIA PINILLA, Ricardo, Bogota, Colombia; DOB 26 Apr 1962; POB Colombia; Citizen Colombia; Nationality Colombia; Cedula No. 19483017 (Colombia); Passport AI264250 (Colombia); (INDIVIDUAL) [SDNT]

6. FLORES SALINAS, Mario Antonio, C. Las Palmas No. 2700 Int. 14, Colonia Atlas Colomos, Zapopan, Jalisco, Mexico; Paseo Lomas del Bosque No. 2700 Int. 14, Colonia Lomas del Bosque, Guadalajara, Jalisco, Mexico; Avenida Hidalgo 1890, Colonia Ladron de Guevara, Guadalajara, Jalisco, Mexico; Tarascos No. 3469-114, Fraccionamiento Monraz, Guadalajara, Jalisco, Mexico; DOB 16 Mar 1937; Alt. DOB 16 Mar 1940; Alt. DOB 06 Mar 1940; POB Zacatecas, Mexico; Citizen Mexico; Nationality Mexico; C.U.R.P. FOSM370316HZSLLR06 (Mexico); Passport 98140065448 (Mexico); R.F.C. FOSM-370316-K24 (Mexico); R.F.C. FOSM-400316-K27 (Mexico); R.F.C. FOSM-370316-K12 (Mexico); R.F.C. FOSM-400316 (Mexico); (INDIVIDUAL) [SDNT]

7. GONZALEZ BETANCOURTH, Luz Adriana, c/o CORDES CIA. LIMITADA, Cali, Colombia; Armenia, Quindio, Colombia; DOB July 29, 1975; POB Sevilla, Valle del Cauca, Colombia; Citizen Colombia; Nationality Colombia; Cedula No. 29831840 (Colombia); (INDIVIDUAL) [SDNT]

8. LARES RANGEL, Jose Luis, c/o GRUPO C.L.P. CONSTRUCTORA S.A. DE C.V., Guadalajara, Jalisco, Mexico; Calle Lopez Cotilla 2032, Piso 10, Colonia Americana, Guadalajara, Jalisco, Mexico; Ignacio Ramos Praslow 640, Guadalajara, Jalisco, Mexico; DOB 18 Apr 1942; POB Ciudad Guzman, Jalisco, Mexico; Citizen Mexico; Nationality Mexico; C.U.R.P. LARL420418HJCRNS01 (Mexico); (INDIVIDUAL) [SDNT]

9. LOPEZ RODRIGUEZ, Jorge Octavio, c/o CIMIENTOS LA TORRE S.A. DE C.V., Guadalajara, Jalisco, Mexico; c/o CUMBRES SOLUCIONES INMOBILIARIAS S.A. DE C.V., Zapopan, Jalisco, Mexico; Calle Aurora y Andres, Benito Juarez, Quintana Roo, Mexico; Calle Boyero No. 3500, Torre 4, Dpto. 2, Fraccionamiento La Calma, Zapopan, Jalisco, Mexico; DOB 01 Apr 1976; Alt. DOB 01 Jan 1976; POB Guadalajara, Jalisco, Mexico; Citizen Mexico; Nationality Mexico; C.U.R.P. LORJ760401HJCPDR08 (Mexico); Passport 98140145654 (Mexico); Passport 01140405557 (Mexico); (INDIVIDUAL) [SDNT]

In addition, OFAC has made changes to the identifying information associated with the following one entity and nine individuals previously designated pursuant to the Order:

1. GALLEGO VALENCIA, John Jairo (a.k.a. “DON JOTA”; a.k.a. “FREDERICO”), c/o LAVADERO EL CASTILLO, Medellin, Colombia; DOB 30 Jul 1950; POB Medellin, Colombia; Cedula No. 70126377 (Colombia); Passport AC312064 (Colombia) (INDIVIDUAL) [SDNT]

2. GONZALEZ BETANCUR, Angel Horacio, c/o FISHING ENTERPRISE HOLDING INC., Panama City, Panama; c/o AQUAMARINA ISLAND INTERNATIONAL CORPORATION, Panama City, Panama; DOB 3 Feb 1966; POB Colombia; Cedula No. 6465085 (Colombia) (INDIVIDUAL) [SDNT]

3. HERNANDEZ ORTEGA, Cesar Alejandro, c/o LIZZY MUNDO INTERIOR, Guadalajara, Mexico; DOB 28 Oct 1975; POB Guadalajara, Jalisco, Mexico; C.U.R.P. HEOC751028HJCRRS09 (Mexico); Passport 140022479 (Mexico) (INDIVIDUAL) [SDNT]

4. HODWALKER MARTINEZ, Martin David (a.k.a. “TILO”), c/o VERANILLO DIVE CENTER LTDA., Barranquilla, Colombia; c/o MARTIN HODWALKER M. Y CIA. S. EN C., Barranquilla, Colombia; c/o YAMAHA VERANILLO DISTRIBUIDORES, Barranquilla, Colombia; c/o DESARROLLO GEMMA CORPORATION, Panama City, Panama; DOB 26 Dec 1968; POB Colombia; Cedula No. 8534760 (Colombia); Passport AF465508 Colombia (INDIVIDUAL) [SDNT]

5. LEAL LOPEZ, Janey Farides, c/o MARTIN HODWALKER M. Y CIA. S. EN C., Barranquilla, Colombia; c/o VERANILLO DIVE CENTER LTDA., Barranquilla, Colombia; DOB 6 Nov 1972; POB Colombia; Cedula No. 32779104 (Colombia); Passport AF665724 (Colombia) (INDIVIDUAL) [SDNT]

6. MARTIN HODWALKER M. & CIA. S. EN C., Via 40 No. 67-42, Barranquilla, Colombia; NIT #802007314-9 (Colombia) (ENTITY) [SDNT]

7. MOR SAAB, Jaime Dib (a.k.a. MOR, Jaime Div; a.k.a. “JAIME MOORE”), c/o DURATEX S.A., Bogota, Colombia; c/o MOR ALFOMBRAS ALFOFIQUE S.A., Bogota, Colombia; c/o MOR GAVIRIA Y CIA. S.C.S., Bogota, Colombia; c/o INVERSIONES MPS S.A., Bogota, Colombia; c/o MAYOR COMERCIALIZADORA LTDA., Bogota, Colombia; c/o PROYECTOS Y SOLUCIONES S.A., Bogota, Colombia; c/o GERENCIA DE PROYECTOS Y SOLUCIONES LTDA., Bogota, Colombia; c/o PROMOCIONES E INVERSIONES LAS PALMAS S.A., Bogota, Colombia; c/o ACUICOLA SANTA CATALINA S.A., Bogota, Colombia; c/o SUPER BOYS GAMES LTDA., Bogota, Colombia; c/o KARIAN LTDA., Bogota, Colombia; c/o GAVIRIA MOR Y CIA. LTDA., Girardot, Colombia; c/o CONSTRUCTORA IRAKA S.A., Bogota, Colombia; c/o CONSTRUCTORA AMERICA S.A., Bogota, Colombia; c/o COMERCIALIZADORA MOR GAVIRIA S.A., Quito, Ecuador; c/o COMERCIALIZADORA MORDUR S.A., Quito, Ecuador; c/o INTERNACIONAL DE PROYECTOS INMOBILIARIOS IPI S.A., Quito, Ecuador; DOB 29 Apr 1955; POB Girardot, Cundinamarca, Colombia; Cedula No. 19222380 (Colombia); SSN 591-98-9689 (United States) (INDIVIDUAL) [SDNT]

8. OLIVEROS GUZMAN, Henry, c/o INVERSIONES MPS S.A., Bogota, Colombia; c/o MAYOR COMERCIALIZADORA LTDA., Bogota, Colombia; c/o MOR ALFOMBRAS ALFOFIQUE S.A., Bogota, Colombia; c/o GERENCIA DE PROYECTOS Y SOLUCIONES LTDA., Bogota, Colombia; c/o HOTEL LA CASCADA S.A., Girardot, Colombia; POB Colombia; Cedula No. 79484051 (Colombia) (INDIVIDUAL) [SDNT]

9. PABON ALVARADO, Gustavo Alberto, c/o INVERSIONES MPS S.A., Bogota, Colombia; c/o PROYECTOS Y SOLUCIONES S.A., Bogota, Colombia; c/o PROYECTOS Y SOLUCIONES INMOBILIARIA LTDA., Bogota, Colombia; c/o GERENCIA DE PROYECTOS Y SOLUCIONES LTDA., Bogota, Colombia; c/o ACUICOLA SANTA CATALINA S.A., Bogota, Colombia; c/o HOTEL LA CASCADA S.A., Girardot, Colombia; c/o FLORIDA SOCCER CLUB S.A., Medellin, Colombia; Avenida 13 No. 100-12 Ofc. 302, Bogota, Colombia; DOB 6 May 1955; POB Bogota, Colombia; Cedula No. 79146243 (Colombia) (INDIVIDUAL) [SDNT]

10. PACHECO MEJIA, Luis, c/o FLORIDA SOCCER CLUB S.A., Medellin, Colombia; Calle Paseo de Los Virreyes No. 4022, Colonia San Wenceslao, Zapopan, Jalisco, Mexico; DOB 18 Jun 1951; POB Guadalajara, Jalisco, Mexico; Passport 03140120376 (Mexico); RFC PAML-510618-ED7 (Mexico) (INDIVIDUAL) [SDNT]

The listings now appear as the following:

1. GALLEGO VALENCIA, John Jairo (a.k.a. “Frederico”; a.k.a. “DON JOTA”); c/o LAVADERO EL CASTILLO, Medellin, Colombia; c/o COMERCIALIZADORA DE CAPITALES LIMITADA, Medellin, Colombia; c/o TECNICAR DIAGNOSTICENTRO S.A., Envigado, Colombia; DOB 30 Jul 1950; POB Medellin, Colombia; Passport AC312064 (Colombia); Cedula No. 70126377 (Colombia); (INDIVIDUAL) [SDNT]

2. GONZALEZ BETANCUR, Angel Horacio, c/o FISHING ENTERPRISE HOLDING INC., Panama City, Panama; c/o AQUAMARINA ISLAND INTERNATIONAL CORPORATION, Panama City, Panama; c/o CORDES CIA. LIMITADA, Cali, Colombia; DOB 3 Feb 1966; POB Colombia; Cedula No. 6465085 (Colombia); (INDIVIDUAL) [SDNT]

3. HERNANDEZ ORTEGA, Cesar Alejandro, c/o LIZZY MUNDO INTERIOR, Guadalajara, Mexico; c/o CUMBRES SOLUCIONES INMOBILIARIAS S.A. DE C.V., Zapopan, Jalisco, Mexico; DOB 28 Oct 1975; POB Guadalajara, Jalisco, Mexico; Passport 140022479 (Mexico); C.U.R.P. HEOC751028HJCRRS09 (Mexico); (INDIVIDUAL) [SDNT]

4. HODWALKER MARTINEZ, Martin David (a.k.a. “Tilo”); c/o VERANILLO DIVE CENTER LTDA., Barranquilla, Colombia; c/o MARTIN HODWALKER M. Y CIA. S. EN C., Barranquilla, Colombia; c/o YAMAHA VERANILLO DISTRIBUIDORES, Barranquilla, Colombia; c/o DESARROLLO GEMMA CORPORATION, Panama City, Panama; c/o HODWALKER Y LEAL Y CIA. S.C.A., Barranquilla, Colombia; c/o YAMAHA MUNDIAL LIMITADA, Santa Marta, Colombia; DOB 26 Dec 1968; POB Colombia; Passport AF465508 Colombia; Cedula No. 8534760 (Colombia); (INDIVIDUAL) [SDNT]

5. LEAL LOPEZ, Janey Farides, c/o MARTIN HODWALKER M. Y CIA. S. EN C., Barranquilla, Colombia; c/o VERANILLO DIVE CENTER LTDA., Barranquilla, Colombia; c/o HODWALKER Y LEAL Y CIA. S.C.A., Barranquilla, Colombia; DOB 6 Nov 1972; POB Colombia; Passport AF665724 (Colombia); Cedula No. 32779104 (Colombia); (INDIVIDUAL) [SDNT]

6. MARTIN HODWALKER M. & CIA. S. EN C. (f.k.a. VERANILLO Y CIA. S. EN C.; n.k.a. VERANILLO S.A.); Via 40 No. 67-20/42, Barranquilla, Colombia; NIT #802007314-9 (Colombia); (ENTITY) [SDNT]

7. MOR SAAB, Jaime Dib (a.k.a. MOR, Jaime Div; a.k.a. “Jaime Moore”); c/o DURATEX S.A., Bogota, Colombia; c/o MOR ALFOMBRAS ALFOFIQUE S.A., Bogota, Colombia; c/o MOR GAVIRIA Y CIA. S.C.S., Bogota, Colombia; c/o INVERSIONES MPS S.A., Bogota, Colombia; c/o MAYOR COMERCIALIZADORA LTDA., Bogota, Colombia; c/o PROYECTOS Y SOLUCIONES S.A., Bogota, Colombia; c/o GERENCIA DE PROYECTOS Y SOLUCIONES LTDA., Bogota, Colombia; c/o PROMOCIONES E INVERSIONES LAS PALMAS S.A., Bogota, Colombia; c/o ACUICOLA SANTA CATALINA S.A., Bogota, Colombia; c/o SUPER BOYS GAMES LTDA., Bogota, Colombia; c/o KARIAN LTDA., Bogota, Colombia; c/o GAVIRIA MOR Y CIA. LTDA., Girardot, Colombia; c/o CONSTRUCTORA IRAKA S.A., Bogota, Colombia; c/o CONSTRUCTORA AMERICA S.A., Bogota, Colombia; c/o COMERCIALIZADORA MOR GAVIRIA S.A., Quito, Ecuador; c/o COMERCIALIZADORA MORDUR S.A., Quito, Ecuador; c/o INTERNACIONAL DE PROYECTOS INMOBILIARIOS IPI S.A., Quito, Ecuador; c/o MIRASOL INTERNATIONAL LIMITED, Road Town, Tortola, Virgin Islands, British; c/o SHARDAE VENTURES INC., Road Town, Tortola, Virgin Islands, British; c/o KELVEDON LIMITED, Georgetown, Grand Cayman, Cayman Islands; c/o PARQUE ECOLOGICO RECREACIONAL DE LAS AGUAS DE GIRARDOT LIMITADA, Girardot, Colombia; DOB 29 Apr 1955; POB Girardot, Cundinamarca, Colombia; SSN 591-98-9689 (United States); Cedula No. 19222380 (Colombia); (INDIVIDUAL) [SDNT]

8. OLIVEROS GUZMAN, Henry, c/o INVERSIONES MPS S.A., Bogota, Colombia; c/o MAYOR COMERCIALIZADORA LTDA., Bogota, Colombia; c/o MOR ALFOMBRAS ALFOFIQUE S.A., Bogota, Colombia; c/o GERENCIA DE PROYECTOS Y SOLUCIONES LTDA., Bogota, Colombia; c/o HOTEL LA CASCADA S.A., Girardot, Colombia; c/o PARQUE ECOLOGICO RECREACIONAL DE LAS AGUAS DE GIRARDOT LIMITADA, Girardot, Colombia; POB Colombia; Cedula No. 79484051 (Colombia); (INDIVIDUAL) [SDNT]

9. PABON ALVARADO, Gustavo Alberto, c/o INVERSIONES MPS S.A., Bogota, Colombia; c/o PROYECTOS Y SOLUCIONES S.A., Bogota, Colombia; c/o PROYECTOS Y SOLUCIONES INMOBILIARIA LTDA., Bogota, Colombia; c/o GERENCIA DE PROYECTOS Y SOLUCIONES LTDA., Bogota, Colombia; c/o ACUICOLA SANTA CATALINA S.A., Bogota, Colombia; c/o HOTEL LA CASCADA S.A., Girardot, Colombia; c/o FLORIDA SOCCER CLUB S.A., Medellin, Colombia; c/o MISION INMOBILIARIA LIMITADA, Bogota, Colombia; Avenida 13 No. 100-12 Ofc. 302, Bogota, Colombia; DOB 6 May 1955; POB Bogota, Colombia; Cedula No. 79146243 (Colombia); (INDIVIDUAL) [SDNT]

10. PACHECO MEJIA, Luis, c/o FLORIDA SOCCER CLUB S.A., Medellin, Colombia; c/o GRANOPRODUCTOS AGRICOLAS S.A. DE C.V., Guadalajara, Jalisco, Mexico; c/o GRUPO C.L.P. CONSTRUCTORA S.A. DE C.V., Guadalajara, Jalisco, Mexico; c/o GRUPO CONSTRUCTOR INMOBILIARIO PACAR S.A. DE C.V., Guadalajara, Jalisco, Mexico; c/o CIMIENTOS LA TORRE S.A. DE C.V., Guadalajara, Jalisco, Mexico; Calle Paseo de Los Virreyes No. 4022, Colonia San Wenceslao, Zapopan, Jalisco, Mexico; DOB 18 Jun 1951; POB Guadalajara, Jalisco, Mexico; RFC PAML-510618-ED7 (Mexico); Passport 03140120376 (Mexico); (INDIVIDUAL) [SDNT]

Dated: June 12, 2009.
J. Robert McBrien,
Acting Director, Office of Foreign Assets Control.

[FR Doc. E9-14383 Filed 6-18-09; 8:45 am]

BILLING CODE 4811-45-P